FEDERAL ELECTION COMMISSION

Sunshine Act; Meeting

DATE AND TIME: Tuesday, April 27, 2004 at 10 a.m.

PLACE: 999 E Street, NW., Washington, DC.

STATUS: This meeting will be closed to the public.

ITEMS TO BE DISCUSSED:

Compliance matters pursuant to 2 U.S.C. 437g.

Audits conducted pursuant to 2 U.S.C. § 437g, § 438(b), and Title 26, U.S.C.

Matters concerning participation in civil actions or proceedings or arbitration.

Internal personnel rules and procedures or matters affecting a particular employee.

* * * * *

DATE AND TIME: Thursday, April 29, 2004 at 10 a.m.

PLACE: 999 E Street, NW., Washington, DC (Ninth Floor)

STATUS: This meeting will be open to the public.

ITEMS TO BE DISCUSSED:

Correction and Approval of Minutes.

Advisory Opinion 2004-08: American Sugar Cane League by counsel, Paul G. Borron, III.

Advisory Opinion 2004-10: Metro Networks Communications, Inc. by Tom Fanning, National Director of Marketing.

Legislative Recommendations for 2004.

Rev. Alfred C. Sharpton/Sharpton 2004 Continuing Entitlement to Public Funds.

Routine Administrative Matters.

PERSON TO CONTACT FOR INFORMATION: Mr. Robert Biersack, Acting Press Officer, Telephone: (202) 694-1220.

Mary W. Dove,
Secretary of the Commission.

[FR Doc. 04-9322 Filed 4-20-04; 2:52 am]

BILLING CODE 6715-01-M